DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 27, 2003.

Interested persons are invited to submit written comments regarding the subject matter of the investigations to the Director, Division of Trade Adjustment Assistance, at the address shown below, not later than May 27, 2003.

The petitions filed in this case are available for inspection at the Office of the Director, Division of Trade Adjustment Assistance, Employment and Training Administration, U.S. Department of Labor, Room C-5311, 200 Constitution Avenue, NW., Washington, DC 20210.

Signed at Washington, DC, this 9th day of May 2003.
Terrence Clark,
Acting Director, Division of Trade Adjustment Assistance.

Appendix
[Petitions Instituted Between 04/28/2003 and 05/02/2003]
TA-W | Subject firm (petitioners) | Location | Date of institution | Date of petition
51,612 | Gillette (Wrks) | Boston, MA | 04/28/2003 | 04/25/2003
51,613 | Autoliv ASP, Inc. (Comp) | Ogden, UT | 04/28/2003 | 04/28/2003
51,614 | Nevamar Company (Comp) | Hampton, SC | 04/28/2003 | 04/25/2003
51,615 | Honeywell Airframe Systems (Comp) | Torrance, CA | 04/28/2003 | 04/25/2003
51,616 | Chandlers (ME) | Portland, ME | 04/28/2003 | 04/14/2003
51,617 | Ebara Solar, Inc. (Wkrs) | Belle Vernon, PA | 04/28/2003 | 04/23/2003
51,618 | Velan Valve Corporation (IAM) | Williston, VT | 04/28/2003 | 04/27/2003
51,619 | Sterling and Adams Bentwood (Wkrs) | Lenoir, NC | 04/28/2003 | 04/25/2003
51,620 | Fishing Vessel (F/V) Misty Dawn (Comp) | King Cove, AK | 04/28/2003 | 04/22/2003
51,621 | Stora Enso North America (Comp) | Wisc. Rapids, WI | 04/29/2003 | 04/02/2003
51,622 | Casco Products (IUE) | Bridgeport, CT | 04/29/2003 | 04/28/2003
51,623 | Harman Wisconsin, Inc. (Comp) | Prairie du Chie, WI | 04/29/2003 | 04/25/2003
51,624 | Stream International (Wkrs) | Silver City, NM | 04/29/2003 | 04/22/2003
51,625 | Motorola, Inc. (Wkrs) | Elgin, IL | 04/29/2003 | 04/28/2003
51,626 | Avaya (CO) | Westminster, CO | 04/29/2003 | 04/25/2003
51,627 | Reliant Manufacturing (CO) | Longmont, CO | 04/29/2003 | 04/25/2003
51,628 | Boeing Aerospace Operations (CA) | Long Beach, CA | 04/29/2003 | 04/28/2003
51,629 | Ridgeway Clocks (Comp) | Ridgeway, VA | 04/29/2003 | 04/28/2003
51,630 | J.C. Viramontes, Inc. (Comp) | El Paso, TX | 04/29/2003 | 04/08/2003
51,631 | Teleflex Automotive (MI) | Hillsdale, MI | 04/29/2003 | 04/24/2003
51,632 | Fishing Vessel (F/V) Capt'n Jay (Wkrs) | Chignik, AK | 04/29/2003 | 04/28/2003
51,633 | Fishing Vessel (F/V) Jackie (Comp) | Metlakatla, AK | 04/29/2003 | 04/23/2003
51,634 | Ronald Wassillie (Comp) | New Halen, AK | 04/29/2003 | 04/21/2003
51,635 | Rustler Fish Company (Comp) | Haines, AK | 04/30/2003 | 04/29/2003
51,636 | Hess-Armaclad, Inc. (Comp) | Quincy, PA | 04/30/2003 | 04/28/2003
51,637 | Mell Trimming Co., Inc. (Comp) | New York, NY | 04/30/2003 | 04/15/2003
51,638 | Keystone Powdered Metal Co. (Comp) | St. Mary's, PA | 04/30/2003 | 04/21/2003
51,639 | Samuel Strapping (USWA) | Winchester, TN | 04/30/2003 | 03/11/2003
51,640 | Gupta Permold Corporation (Wkrs) | Pittsburgh, PA | 04/30/2003 | 04/24/2003
51,641 | TMD Friction, Inc. (Comp) | Dublin, VA | 04/30/2003 | 04/29/2003
51,642 | Sweet-Orr (Wkrs) | Anniston, AL | 04/30/2003 | 04/24/2003
51,643 | JLG Industries, Inc. (Wkrs) | McConnellsburg, PA | 04/30/2003 | 04/01/2003
51,644 | Nichrin Coupler Tec. (Wkrs) | El Paso, TX | 04/30/2003 | 04/10/2003
51,645 | Koch Nitrogen (PACE) | Sterlington, LA | 04/30/2003 | 04/21/2003
51,646 | Viasystems Wire Harness Industries, Inc. (Comp) | Bucyrus, OH | 04/30/2003 | 04/30/2003
51,647 | Sanmina-SCI Corporation (Wkrs) | Woburn, MA | 04/30/2003 | 04/30/2003
51,648 | US Steel (ICWUC) | Granite City, IL | 04/30/2003 | 04/24/2003
51,649 | Pur Water Purification (Comp) | Brooklyn Park, MN | 04/30/2003 | 04/28/2003
51,650 | Markwins Beauty Products, Inc. (UFCW) | N. Arlington, NJ | 04/30/2003 | 04/10/2003
51,651 | Solectron Global Services (OR) | Hillsboro, OR | 04/30/2003 | 04/29/2003
51,652 | Siegel-Roberts (Wkrs) | Portageville, MO | 04/30/2003 | 04/03/2003
51,653 | Aid Temporary Services (Wkrs) | Oscelo, AR | 04/30/2003 | 04/29/2003
51,654 | Tubelite, Inc. (Comp) | Reed City, MI | 05/01/2003 | 04/22/2003
51,655 | Timeplex LLC (Wkrs) | Hackensack, NJ | 05/01/2003 | 04/28/2003
51,656 | Springs Industries (Wkrs) | Lancaster, SC | 05/01/2003 | 04/26/2003
51,657 | Lucent Technologies (MA) | N. Andover, MA | 05/01/2003 | 05/01/2003
51,658 | Ellis Hosiery (Wkrs) | Hickory, NC | 05/01/2003 | 04/30/2003
51,659 | Brookline, Inc. (Comp) | Charlotte, NC | 05/01/2003 | 04/30/2003
51,660 | Leonard Kunkin Associates (Comp) | Sanderton, PA | 05/01/2003 | 04/30/2003
51,661 | Preco Electronics, Inc. (Comp) | Boise, ID | 05/01/2003 | 04/30/2003
51,662 | SDS Services (Wkrs) | Danville, KY | 05/01/2003 | 04/23/2003
51,663 | Anderson Pattern, Inc. (IAMAW) | Muskegon Hts., MI | 05/01/2003 | 04/20/2003
51,664 | Parker-Keeper Inc. (Wkrs) | Springfield, KY | 05/01/2003 | 03/17/2003
51,665 | Cord Master Engineering (Comp) | North Adams, MA | 05/02/2003 | 05/01/2003
51,666 | International Terra Cotta, Inc. (Comp) | Los Angeles, CA | 05/02/2003 | 05/01/2003
51,667 | American Candy Co. (Wkrs) | Selma, AL | 05/02/2003 | 04/11/2003
51,668 | Creative Dyeing Inc. (Comp) | Mt. Holly, NC | 05/02/2003 | 04/28/2003
51,669 | Premcor (Wkrs) | Hartford, IL | 05/02/2003 | 03/01/2003
51,670 | Honeywell (Comp) | El Paso, TX | 05/02/2003 | 04/30/2003
51,671 | Hebron Apparel (Wkrs) | Cades, SC | 05/02/2003 | 04/23/2003
51,672 | GE Industrial Systems (Comp) | Shreveport, LA | 05/02/2003 | 05/01/2003
51,673 | Suntron Corporation (Comp) | Phoenix, AZ | 05/02/2003 | 05/01/2003
51,674 | Celeste Industries (MD) | Easton, MD | 05/02/2003 | 05/01/2003
51,675 | Aero-Motive Company (Wkrs) | Kalamazoo, MI | 05/02/2003 | 05/01/2003
51,676 | F/V Eileen J II (Wkrs) | Bethel, AK | 05/02/2003 | 04/24/2003

[FR Doc. 03-12291 Filed 5-15-03; 8:45 am]

BILLING CODE 4510-30-M